DEPARTMENT OF HEALTH AND HUMAN SERVICES

Administration for Children and Families

Submission for OMB Review; Comment Request

Title: Income Withholding for Support (IWO) (Formerly: Order to Withhold Income for Child Support and Notice of an Order to Withhold Income for Child Support).

OMB No.: 0970-0154.

Description: Pub. L. 104-193, The Personal Responsibility and Work Opportunity Reconciliation Act (PRWORA) of 1996, Section 324, requires the Federal Office of Child Support Enforcement (OCSE) to develop a standardized form to collect child support payments from an obligor's employer. The form, which promotes standardization and is used for title IV-D and non-IV-D cases that require income withholding, expires 5/31/2007, and the Administration for Children and Families is taking this opportunity to revise the form and its instructions.

Overall, the language and format of the form have been edited, modified, and made easier to read and comprehend. The two-page form provides a detailed legal description of the established order, support amounts, and remittance information an employer needs to withhold payments from an obligor who owes child support. One of the new fields on the form is for the attachment of lump sum payments by employers. This addition allows the issuing entity to instruct the employer with respect to the attachment and remittance of lump sum payments. Fields for child's name and date of birth have been moved to the front of the form, allowing the employer community to easily identify who the form is for and to avoid implementation of duplicate orders. Other changes that have enhanced the form include: A simplified title, clear identification of who is sending the form, and modifications to allow the employer to easily report employee terminations.

The electronic IWO (e-IWO) allows States to transmit IWOs electronically and employers to notify States electronically regarding the status of IWOs.

Respondents: States, Territories, Tribes, and Courts.

Annual Burden Estimates
Instrument | Number of respondents | Number of responses per respondent | Average burden hours per response | Total burden hours
Income Withholding for Support (IWO) | 58 | 206,897 | .0017 | 20,400
ELECTRONIC Income Withholding for Support | 20 | 60,000 | .0008 | 960
IWO—Submitted Manually | 1,800 | 1,321 | .0840 | 199,735

Estimated Total Annual Burden Hours: 221,095.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Dated: May 15, 2007.
Robert Sargis,
Reports Clearance Officer.

[FR Doc. 07-2479 Filed 5-17-07; 8:45 am]

BILLING CODE 4184-01-M